GENERAL SERVICES ADMINISTRATION

Office of Governmentwide Policy

Cancellation of an Optional Form by the Department of State

AGENCY: Office of Governmentwide Policy, GSA.

ACTION: Notice.

SUMMARY: The Department of State cancelled the following Optional Form: OF 137, Designation of Beneficiary (12/77).

This form is now a State Department form. You can request copies from: Department of State, A/RPS/DIR, SA-22, 18th and G Streets, NW.; Suite 2400, Washington, DC 20520-2201, 202-312-9605.

FOR FURTHER INFORMATION CONTACT: Mr. Charles Cunningham, Department of State, 202-312-9605.

DATES: Effective December 15,2003.

Dated: December 5, 2003.
Barbara M. Williams,
Deputy Standard and Optional Forms Management Officer, General Services Administration.

[FR Doc. 03-30891 Filed 12-12-03; 8:45 am]

BILLING CODE 6820-34-M